DEPARTMENT OF ENERGY

Federal Energy Regulatory Commission

Combined Notice of Filings

Take notice that the Commission has received the following Natural Gas Pipeline Rate and Refund Report filings:

Filings Instituting Proceedings

Docket Numbers: RP22-223-000.

Applicants: Kern River Gas Transmission Company.

Description: Compliance filing: 2021 NAESB 3.2 to be effective 6/1/2022.

Filed Date: 11/10/21.

Accession Number: 20211110-5078.

Comment Date: 5 p.m. ET 11/22/21.

Docket Numbers: RP22-224-000.

Applicants: Northwest Pipeline LLC.

Description: Compliance filing: NAESB 3.2 Compliance Filing to be effective 6/1/2022.

Filed Date: 11/10/21.

Accession Number: 20211110-5096.

Comment Date: 5 p.m. ET 11/22/21.

Docket Numbers: RP22-225-000.

Applicants: Gulf Shore Energy Partners, LP.

Description: Compliance filing: Gulf Shore Energy Partners LP Order No. 587-Y NAESB Filing to be effective 6/1/2022.

Filed Date: 11/10/21.

Accession Number: 20211110-5100.

Comment Date: 5 p.m. ET 11/22/21.

Docket Numbers: RP22-226-000.

Applicants: Honeoye Storage Corporation.

Description: Compliance filing: Compliance Filing Adoption of NAESB Version 3.2 to be effective 6/1/2022.

Filed Date: 11/10/21.

Accession Number: 20211110-5102.

Comment Date: 5 p.m. ET 11/22/21.

Docket Numbers: RP22-227-000.

Applicants: RH energytrans, LLC.

Description: Compliance filing: RH energytrans, LLC Order No. 587-Z Compliance Filing to be effective 6/1/2022.

Filed Date: 11/10/21.

Accession Number: 20211110-5108.

Comment Date: 5 p.m. ET 11/22/21.

Docket Numbers: RP22-228-000.

Applicants: Great Basin Gas Transmission Company.

Description: Compliance filing: NAESB Version 3.2 to be effective 6/1/2022.

Filed Date: 11/10/21.

Accession Number: 20211110-5127.

Comment Date: 5 p.m. ET 11/22/21.

Docket Numbers: RP22-229-000.

Applicants: Florida Southeast Connection, LLC.

Description: Compliance filing: Florida Southeast Connection, LLC Order No. 587-Z Compliance Filing to be effective 6/1/2022.

Filed Date: 11/10/21.

Accession Number: 20211110-5150.

Comment Date: 5 p.m. ET 11/22/21.

Docket Numbers: RP22-230-000.

Applicants: Cameron Interstate Pipeline, LLC.

Description: Compliance filing: Cameron Interstate Pipeline, LLC Compliance Filing—FERC Order 587-Z NAESB 3.2 to be effective 6/1/2022.

Filed Date: 11/10/21.

Accession Number: 20211110-5151.

Comment Date: 5 p.m. ET 11/22/21.

Docket Numbers: RP22-231-000.

Applicants: LA Storage, LLC.

Description: Compliance filing: LA Storage, LLC Complianec Filing—FERC Order 587-Z NAESB 3.2 to be effective 6/1/2022.

Filed Date: 11/10/21.

Accession Number: 20211110-5153.

Comment Date: 5 p.m. ET 11/22/21.

Docket Numbers: RP22-232-000.

Applicants: MarkWest New Mexico, L.L.C.

Description: Compliance filing: Order No. 587-Z Compliance to be effective 6/1/2022.

Filed Date: 11/10/21.

Accession Number: 20211110-5155.

Comment Date: 5 p.m. ET 11/22/21.

Docket Numbers: RP22-233-000.

Applicants: MarkWest Pioneer, L.L.C.

Description: Compliance filing: Order No. 587-Z Compliance to be effective 6/1/2022.

Filed Date: 11/10/21.

Accession Number: 20211110-5158.

Comment Date: 5 p.m. ET 11/22/21.

Docket Numbers: RP22-234-000.

Applicants: Rendezvous Pipeline Company, LLC.

Description: Compliance filing: Order No. 587-Z Compliance to be effective 6/1/2022.

Filed Date: 11/10/21.

Accession Number: 20211110-5164.

Comment Date: 5 p.m. ET 11/22/21.

Docket Numbers: RP22-235-000.

Applicants: El Paso Natural Gas Company, L.L.C.

Description: Compliance filing: Order No. 587-Z Compliance Filing to be effective 6/1/2022.

Filed Date: 11/10/21.

Accession Number: 20211110-5202.

Comment Date: 5 p.m. ET 11/22/21.

Docket Numbers: RP22-236-000.

Applicants: Cadeville Gas Storage LLC.

Description: Compliance filing: Cadeville Gas Storage submits Order No. 587-Z Compliance be effective 6/1/2022 to be effective 6/1/2022.

Filed Date: 11/10/21.

Accession Number: 20211110-5203.

Comment Date: 5 p.m. ET 11/22/21.

Docket Numbers: RP22-237-000.

Applicants: Mojave Pipeline Company, L.L.C.

Description: Compliance filing: Order No. 587-Z Compliance Filing to be effective 6/1/2022.

Filed Date: 11/10/21.

Accession Number: 20211110-5204.

Comment Date: 5 p.m. ET 11/22/21.

Docket Numbers: RP22-238-000.

Applicants: Blue Lake Gas Storage Company.

Description: Compliance filing: Compliance to RM96-1-042—Order No. 587-Z to be effective 6/1/2022.

Filed Date: 11/10/21.

Accession Number: 20211110-5205.

Comment Date: 5 p.m. ET 11/22/21.

Docket Numbers: RP22-239-000.

Applicants: Cheyenne Plains Gas Pipeline Company, L.L.C.

Description: Compliance filing: Order 587-Z Compliance Filing to be effective 6/1/2022.

Filed Date: 11/10/21.

Accession Number: 20211110-5206.

Comment Date: 5 p.m. ET 11/22/21.

Docket Numbers: RP22-240-000.

Applicants: Sierrita Gas Pipeline LLC.

Description: Compliance filing: Order No. 587-Z Compliance Filing to be effective 6/1/2022.

Filed Date: 11/10/21.

Accession Number: 20211110-5207.

Comment Date: 5 p.m. ET 11/22/21.

Docket Numbers: RP22-241-000.

Applicants: Wyoming Interstate Company, L.L.C.

Description: Compliance filing: Order 587-Z Compliance Filing to be effective 6/1/2022.

Filed Date: 11/10/21.

Accession Number: 20211110-5210.

Comment Date: 5 p.m. ET 11/22/21.

Docket Numbers: RP22-242-000.

Applicants: Ruby Pipeline, L.L.C.

Description: Compliance filing: Order No. 587-Z Compliance Filing to be effective 6/1/2022.

Filed Date: 11/10/21.

Accession Number: 20211110-5212.

Comment Date: 5 p.m. ET 11/22/21.

Docket Numbers: RP22-243-000.

Applicants: TransColorado Gas Transmission Company LLC.

Description: Compliance filing: Order No. 587-Z Compliance Filing to be effective 6/1/2022.

Filed Date: 11/10/21.

Accession Number: 20211110-5213.

Comment Date: 5 p.m. ET 11/22/21.

Docket Numbers: RP22-244-000.

Applicants: Colorado Interstate Gas Company, L.L.C.

Description: Compliance filing: Order No. 587-Z Compliance Filing to be effective 6/1/2022.

Filed Date: 11/10/21.

Accession Number: 20211110-5217.

Comment Date: 5 p.m. ET 11/22/21.

Docket Numbers: RP22-245-000.

Applicants: Young Gas Storage Company, Ltd.

Description: Compliance filing: Order 587-Z Compliance Filing to be effective 6/1/2022.

Filed Date: 11/10/21.

Accession Number: 20211110-5228.

Comment Date: 5 p.m. ET 11/22/21.

Docket Numbers: RP22-246-000.

Applicants: Monroe Gas Storage Company, LLC.

Description: Compliance filing: MGS submits Order No. 587-Z Compliance be effective 6/1/2022 to be effective 6/1/2022.

Filed Date: 11/10/21.

Accession Number: 20211110-5233.

Comment Date: 5 p.m. ET 11/22/21.

Docket Numbers: RP22-247-000.

Applicants: Pine Prairie Energy Center, LLC.

Description: Compliance filing: PPEC submits Order No. 587-Z Compliance be effective 6/1/2022 to be effective 11/10/2021.

Filed Date: 11/10/21.

Accession Number: 20211110-5234.

Comment Date: 5 p.m. ET 11/22/21.

Docket Numbers: RP22-248-000.

Applicants: SG Resources Mississippi, L.L.C.

Description: Compliance filing: SGRM submits Order No. 587-Z Compliance be effective 6/1/2022 to be effective 6/1/2022.

Filed Date: 11/10/21.

Accession Number: 20211110-5236.

Comment Date: 5 p.m. ET 11/22/21.

Docket Numbers: RP22-249-000.

Applicants: Perryville Gas Storage LLC.

Description: Compliance filing: PGS submits Order No. 587-Z Compliance be effective 6/1/2022 to be effective 6/1/2022.

Filed Date: 11/10/21.

Accession Number: 20211110-5237.

Comment Date: 5 p.m. ET 11/22/21.

Docket Numbers: RP22-250-000.

Applicants: Crossroads Pipeline Company.

Description: Compliance filing: Compliance to RM96-1-042—Order No. 587-Z to be effective 6/1/2022.

Filed Date: 11/12/21.

Accession Number: 20211112-5000.

Comment Date: 5 p.m. ET 11/24/21.

Docket Numbers: RP22-251-000.

Applicants: Tuscarora Gas Transmission Company.

Description: Compliance filing: NAESB 3.2—Compliance to RM96-1-042—Order No. 587-Z to be effective 6/1/2022.

Filed Date: 11/12/21.

Accession Number: 20211112-5002.

Comment Date: 5 p.m. ET 11/24/21.

Docket Numbers: RP22-252-000.

Applicants: Nautilus Pipeline Company, L.L.C.

Description: Compliance filing: NPC Order 587-Z (Docket RM96-1-042) Compliance Filing to be effective 6/1/2022.

Filed Date: 11/12/21.

Accession Number: 20211112-5005.

Comment Date: 5 p.m. ET 11/24/21.

Docket Numbers: RP22-253-000.

Applicants: Texas Eastern Transmission, LP.

Description: Compliance filing: TETLP Order 587-Z (Docket RM96-1-042) Compliance Filing to be effective 6/1/2022.

Filed Date: 11/12/21.

Accession Number: 20211112-5006.

Comment Date: 5 p.m. ET 11/24/21.

Docket Numbers: RP22-254-000.

Applicants: Columbia Gas Transmission, LLC.

Description: Compliance filing: NAESB 3.2—Compliance to RM96-1-042—Order No. 587-Z to be effective 6/1/2022.

Filed Date: 11/12/21.

Accession Number: 20211112-5008.

Comment Date: 5 p.m. ET 11/24/21.

Docket Numbers: RP22-255-000.

Applicants: Portland Natural Gas Transmission System.

Description: Compliance filing: NAESB 3.2—Compliance to RM96-1-042—Order No. 587-Z to be effective 6/1/2022.

Filed Date: 11/12/21.

Accession Number: 20211112-5009.

Comment Date: 5 p.m. ET 11/24/21.

Docket Numbers: RP22-256-000.

Applicants: Northern Border Pipeline Company.

Description: Compliance filing: NAESB 3.2—Compliance to RM96-1-042—Order No. 587-Z to be effective 6/1/2022.

Filed Date: 11/12/21.

Accession Number: 20211112-5010.

Comment Date: 5 p.m. ET 11/24/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP20-614-006.

Applicants: Transcontinental Gas Pipe Line Company, LLC.

Description: Refund Report: Cash Out Refund Report Docket Nos. RP20-614 & RP20-618 to be effective N/A.

Filed Date: 11/10/21.

Accession Number: 20211110-5055.

Comment Date: 5 p.m. ET 11/22/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 15, 2021.
Debbie-Anne A. Reese,
Deputy Secretary.

[FR Doc. 2021-25251 Filed 11-18-21; 8:45 am]

BILLING CODE 6717-01-P